DEPARTMENT OF HOUSING AND URBAN DEVELOPMENT

[Docket No. FR-5187-N-39]

Household Outcomes Survey for FEMA's Alternative Housing Pilot Program

AGENCY: Office of the Chief Information Officer, HUD.

ACTION: Notice.

SUMMARY: The proposed information collection requirement described below has been submitted to the Office of Management and Budget (OMB) for review, as required by the Paperwork Reduction Act. The Department is soliciting public comments on the subject proposal.

The proposed information collection will collect household outcome data from families who have received housing under FEMA's Alternative Housing Pilot Program (AHPP). HUD is conducting an evaluation of AHPP. Four States affected by Hurricanes Katrina and Rita received AHPP grants to test out alternative approaches to providing temporary housing after a disaster. HUD is charged with measuring what benefits and costs are associated with each of the alternatives being implemented by the States. Measuring the program impact on health, satisfaction, and general well-being of the occupants is a key part of the evaluation. This household outcomes survey will collect information that will be used to evaluate the impact of various housing alternatives on the quality of life of households who participate in the program.

DATES: Comments Due Date: July 16, 2008.

ADDRESSES: Interested persons are invited to submit comments regarding this proposal. Comments should refer to the proposal by name and/or OMB approval Number (2528-NEW) and should be sent to: HUD Desk Officer, Office of Management and Budget, New Executive Office Building, Washington, DC 20503; fax: 202-395-6974.

FOR FURTHER INFORMATION CONTACT: Lillian Deitzer, Reports Management Officer, QDAM, Department of Housing and Urban Development, 451 Seventh Street, SW., Washington, DC 20410; e-mail Lillian Deitzer at Lillian_L_Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g. , permitting electronic submission of responses.

This Notice Also Lists the Following Information

Title of Proposal: Household Outcomes Survey for FEMA's Alternative Housing Pilot Program.

OMB Approval Number: 2528-NEW.

Form Numbers: None.

Description of the Need for the Information and its Proposed Use: The proposed information collection will collect household outcome data from families who have received housing under FEMA's Alternative Housing Pilot Program (AHPP). HUD is conducting an evaluation of AHPP. Four States affected by Hurricanes Katrina and Rita received AHPP grants to test out alternative approaches to providing temporary housing after a disaster. HUD is charged with measuring what benefits and costs are associated with each of the alternatives being implemented by the States. Measuring the program impact on health, satisfaction, and general well-being of the occupants is a key part of the evaluation. This household outcomes survey will collection information that will be used to evaluate the impact of various housing alternatives on the quality of life of households who participate in the program.

Frequency of Submission: On occasion.

| Number of respondents | Annual responses | × | Hours per response | = | Burden hours
Reporting Burden | 747 | 1 |  | 0.749 |  | 560

Total Estimated Burden Hours: 560.

Status: New Collection.

Authority: Section 3507 of the Paperwork Reduction Act of 1995, 44 U.S.C. 35, as amended.

Dated: June 5, 2008.
Lillian L. Deitzer,
Departmental Paperwork Reduction Act Officer, Office of the Chief Information Officer.

[FR Doc. E8-13397 Filed 6-13-08; 8:45 am]

BILLING CODE 4210-67-P